DEPARTMENT OF ENERGY

Federal Energy Regulatory Commission

Combined Notice of Filings #1

Take notice that the Commission received the following electric corporate filings:

Docket Numbers: EC20-66-000.

Applicants: Northern States Power Company, a Minnesota corporation, Crowned Ridge Wind II, LLC.

Description: Application for Authorization Under Section 203 of the Federal Power Act, et al. of Northern States Power Company, a Minnesota corporation, et al.

Filed Date: 5/8/20.

Accession Number: 20200508-5330.

Comments Due: 5 p.m. ET 6/22/20.

Take notice that the Commission received the following exempt wholesale generator filings:

Docket Numbers: EG20-155-000.

Applicants: High Majestic Wind I, LLC.

Description: Notice of Self-Certification of Exempt Wholesale Generator Status of High Majestic Wind I, LLC.

Filed Date: 5/12/20.

Accession Number: 20200512-5085.

Comments Due: 5 p.m. ET 6/2/20.

Docket Numbers: EG20-156-000.

Applicants: Soldier Creek Wind, LLC.

Description: Notice Self-Certification of Exempt Wholesale Generator Status of Soldier Creek Wind, LLC.

Filed Date: 5/12/20.

Accession Number: 20200512-5087.

Comments Due: 5 p.m. ET 6/2/20.

Docket Numbers: EG20-157-000.

Applicants: El Campo Wind, LLC.

Description: Notice of Self-Certification of Exempt Wholesale Generator Status of El Campo Wind, LLC.

Filed Date: 5/12/20.

Accession Number: 20200512-5099.

Comments Due: 5 p.m. ET 6/2/20.

Take notice that the Commission received the following electric rate filings:

Docket Numbers: ER20-539-001.

Applicants: East Fork Wind Project, LLC.

Description: Notice of Change in Status of East Fork Wind Project, LLC.

Filed Date: 5/11/20.

Accession Number: 20200511-5203.

Comments Due: 5 p.m. ET 6/1/20.

Docket Numbers: ER20-936-000.

Applicants: Entergy Arkansas, LLC.

Description: Response of Entergy Services, LLC, on behalf of Entergy Arkansas LLC, to the April 10, 2020 Deficiency Letter for additional information.

Filed Date: 5/11/20.

Accession Number: 20200511-5193.

Comments Due: 5 p.m. ET 6/1/20.

Docket Numbers: ER20-1525-000.

Applicants: Eastern Landfill Gas, LLC.

Description: Clarifications to April 13, 2020 Amendment to April 8, 2020 Waiver Request of Eastern Landfill Gas, LLC.

Filed Date: 5/11/20.

Accession Number: 20200511-5205.

Comments Due: 5 p.m. ET 5/18/20.

Docket Numbers: ER20-1801-001.

Applicants: Techren Solar V LLC.

Description: Tariff Amendment: Amendment to MBR Application to be effective 10/1/2020.

Filed Date: 5/12/20.

Accession Number: 20200512-5000.

Comments Due: 5 p.m. ET 6/2/20.

Docket Numbers: ER20-1805-000.

Applicants: Ohio Edison Company, The Cleveland Electric Illuminating Comp, The Toledo Edison Company.

Description: Request for Waiver, et al. of the FirstEnergy Ohio Utilities.

Filed Date: 5/11/20.

Accession Number: 20200511-5190.

Comments Due: 5 p.m. ET 5/18/20.

Docket Numbers: ER20-1806-000.

Applicants: Catalyst Old River Hydroelectric Limited.

Description: Baseline eTariff Filing: Application For Market Based Rate Authority to be effective 7/12/2020.

Filed Date: 5/12/20.

Accession Number: 20200512-5044.

Comments Due: 5 p.m. ET 6/2/20.

Docket Numbers: ER20-1807-000.

Applicants: Southern California Edison Company.

Description: § 205(d) Rate Filing: GIA and DSA Dutch Wind, LLC—Dutch Energy, SA No. 1104, 1105 to be effective 4/13/2020.

Filed Date: 5/12/20.

Accession Number: 20200512-5098.

Comments Due: 5 p.m. ET 6/2/20.

Docket Numbers: ER20-1808-000.

Applicants: Southwest Power Pool, Inc.

Description: § 205(d) Rate Filing: 3670 West Texas A&M University and SPS Affected Systems FCA to be effective 5/4/2020.

Filed Date: 5/12/20.

Accession Number: 20200512-5101.

Comments Due: 5 p.m. ET 6/2/20.

Docket Numbers: ER20-1809-000.

Applicants: PJM Interconnection, L.L.C., Potomac Electric Power Company.

Description: § 205(d) Rate Filing: PEPCO submits Interconnection Agreement, SA No. 5610 with SMECO to be effective 4/23/2020.

Filed Date: 5/12/20.

Accession Number: 20200512-5114.

Comments Due: 5 p.m. ET 6/2/20.

Docket Numbers: ER20-1810-000.

Applicants: Midcontinent Independent System Operator, Inc.

Description: § 205(d) Rate Filing: 2020-05-12_SA 3180 Dunns Bridge Solar-NIPSCO 2nd Rev GIA (J643 J847) to be effective 5/5/2020.

Filed Date: 5/12/20.

Accession Number: 20200512-5134.

Comments Due: 5 p.m. ET 6/2/20.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: May 12, 2020.
Nathaniel J. Davis, Sr.,
Deputy Secretary.

[FR Doc. 2020-10575 Filed 5-15-20; 8:45 am]

BILLING CODE 6717-01-P